DEPARTMENT OF LABOR

Employment and Training Administration

[TA-W-63,575 etc.]

Philips Consumer Lifestyle; Amended Certification Regarding Eligibility To Apply for Worker Adjustment Assistance and Alternative Trade Adjustment Assistance

Philips Consumer Lifestyle, Ledgewood, New Jersey, Including Employees of Philips Consumer Lifestyle, Ledgewood, New Jersey Working at Various Locations in the Following States:

TA-W-63,575A, Arkansas;

TA-W-63,575B, California;

TA-W-63,575C, Florida;

TA-W-63,575D, Minnesota;

TA-W-63,575E, North Carolina;

TA-W-63,575F, South Carolina;

TA-W-63,575G, Texas;

TA-W-63,575H, Virginia.

Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on July 16, 2008, applicable to workers of Philips Consumer Lifestyle, Ledgewood, New Jersey. The notice was published in the Federal Register on July 30, 2008 (73 FR 44284).

At the request of the State agency, the Department reviewed the certification for workers of the subject firm. The workers were engaged in the production of antennas and packaged electronic accessories.

New information shows that worker separations have occurred involving employees of the Ledgewood, New Jersey facility of Philips Consumer Lifestyle working at various locations in the following states: Arkansas, California, Florida, Minnesota, North Carolina, South Carolina, Texas and Virginia. These employees provided sales support services for the firm's production of antennas and packaged electronic accessories.

Based on these findings, the Department is amending this certification to include employees of the Ledgewood, New Jersey facility of the subject firm working at various locations in the above mentioned states.

The intent of the Department's certification is to include all workers of Philips Consumer Lifestyle who were adversely affected by a shift in production of antennas and packaged electronic accessories to China.

The amended notice applicable to TA-W-63,575 is hereby issued as follows:

“All workers of Philips Consumer Lifestyle, Ledgewood, New Jersey (TA-W-63,575), including employees of Philips Consumer Lifestyle, Ledgewood, New Jersey working at various locations in the following states: Arkansas (TA-W-63,575A), California (TA-W-63,575B), Florida (TA-W-63,575C), Minnesota (TA-W-63,575D), North Carolina (TA-W-63,575E), South Carolina (TA-W-63,575F), Texas (TA-W-63,575G) and Virginia (TA-W-63,575H), who became totally or partially separated from employment on or after June 18, 2007, through July 16, 2010, are eligible to apply for adjustment assistance under Section 223 of the Trade Act of 1974, and are also eligible to apply for alternative trade adjustment assistance under Section 246 of the Trade Act of 1974.”

Signed at Washington, DC, this 12th day of September 2008.
Linda G. Poole,
Certifying Officer, Division of Trade Adjustment Assistance.

[FR Doc. E8-22119 Filed 9-22-08; 8:45 am]

BILLING CODE 4510-FN-P